DEPARTMENT OF HOUSING AND URBAN DEVELOPMENT

[Docket No. FR-5486-N-11]

Notice of Proposed Information Collection for Public Comment on the Assessment of Native American, Alaska Native and Native Hawaiian Housing Needs

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: July 5, 2011.

ADDRESSES: Interested persons are invited to submit comments regarding this proposal. Comments should refer to the proposal by name and should be sent to: Reports Liaison Officer, Office of Policy Development and Research, Department of Housing and Urban Development, 451 Seventh Street, SW., Room 8230, Washington, DC 20410.

FOR FURTHER INFORMATION CONTACT: Jennifer Stoloff, Department of Housing and Urban Development, Office of Policy Development and Research, 451 7th Street, SW., Room 8120, Washington DC 20401; telephone (202) 402-5723, (this is not a toll free number). Copies of the proposed data collection instruments and other available documents may be obtained from Dr. Stoloff.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond, including through the use of appropriate automated collection techniques or other forms of information technology, e.g., permitting electronic submission of responses.

This notice also lists the following information:

Title of Proposal: Assessment of Native American, Alaska Native and Native Hawaiian Housing Needs

Description of the need for information and proposed use:

The Department is conducting this study under contract with The Urban Institute and its subcontractors, NORC, Econometrica and SSI. The project is a housing needs assessment that will produce national level estimates of housing needs in tribal areas in the United States. Under the Native American Housing and Self Determination Act of 1996 (NAHASDA), HUD provides funding though several programs to Native American and Alaskan Native populations. The level of housing need is of particular interest to HUD and the Congress has mandated this study (see Senate Report 111-69). HUD has not published a study on housing needs, in general, for this population since 1996. The surveys covered by this data collection include a household survey of tribal members, a telephone, web, and in-person survey of tribes and/or Tribally Designated Housing Entities (TDHEs), an interview guide for tribal leaders, a survey of lenders working in tribal areas, an interview guide for organizations and leaders in Hawaii, and an interview guide for staff at Urban Indian Centers.

Members of the affected public:

TDHE/tribal housing staff: 80 phone surveys, 24 in-person interviews, and 449 web-based surveys

Household survey: Approximately 1,280 households

Lender survey: 30-35 lenders, primarily Section 184 Program approved lenders, but also including tribe-owned credit unions, Native CDFIs, and lenders using state HFA initiatives.

Urban study telephone interviews: 25 Indian Community Center Directors in urban areas

In-person interviews for urban study (5 locations): other Indian community center staff; housing agency, homeless shelter, and social service agency staff.

Group discussions: Native Americans residents in urban areas served by the above agencies in 5 locations. Hawaii study: telephone interviews with Native Hawaiian agency staff and stakeholders; homestead associations.

Estimation of the total number of hours needed to prepare the information collection including number of respondents, frequency of response, and hours of response:

Respondents | Number of respondents | Number responses per respondent | Average burden/response (in hours) | Total burden hours
Household Survey | 1280 | 1 | 45 minutes (.75 hour) | 960
TDHE Telephone Survey | 80 | 1 | 45 minutes (.75 hour) | 60
TDHE on-site interviews | 24 | 1 | 1 hour | 24
TDHE web-based surveys | 449 | 1 | 30 minutes | 224.5
Lender Telephone Interviews | 35 | 1 | 45 minutes (.75 hours) | 26.25
On-site interviews with Tribal Leaders, Program Staff | 96 (24 sites × 4 per site) | 1 | 1 hour | 96
Telephone Interviews of Indian Community Center Directors | 25 | 1 | 30 minutes (.5 hours) | 12.5
On-site interviews for Urban Indian case studies | 25 (5 × 5 per site) | 1 | 1.5 hours | 37.5
On-site group discussions for Urban Indian case studies | 40 (5 × 8 per group) | 1 | 2 hours | 80
Telephone interviews with Native Hawaiian agency staff/stakeholders | 24 | 1 | 45 minutes (.75 hours) | 18
Structured telephone interviews with homestead associations | 50 | 1 | 30 minutes (.5 hours) | 25
Total |  |  |  | 1,563.75

Status of the proposed information collection: Pending OMB approval.

Authority: Title 13 U.S.C. 9(a), and Title 12, U.S.C., Section 1701z-1 et seq.

Dated: April 27, 2011.
Raphael W. Bostic,
Assistant Secretary for Policy Development and Research.

[FR Doc. 2011-10994 Filed 5-4-11; 8:45 am]

BILLING CODE 4210-67-P